DEPARTMENT OF LABOR

Employment and Training Administration

[TA-W-64,668; TA-W-64,668A]

Tenneco, Inc.; Including On-Site Workers From Elite Staffing, Inc.; Cozad, NE; Tenneco, Inc.; Including On-Site Leased Workers of Elite Staffing, Inc.; Monroe, MI; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on January 15, 2009, applicable to workers of Tenneco, Inc., Cozad, Nebraska. The notice was published in the Federal Register on February 2, 2009 (74 FR Number 5871). The Department issued an amended certification on December 8, 2009, to include on-site leased workers from Elite Staffing, Inc. The Notice of amendment will soon be published in the Federal Register.

At the request of workers of Tenneco, Inc., Monroe, Michigan, the Department reviewed the certification for workers of Tenneco Inc., Cozad, Nebraska.

New information shows that workers from Tenneco, Inc., Monroe, Michigan, provide management and administrative support to the Tenneco, Inc., Cozad, Nebraska, location.

The intent of the Department's certification is to include all workers of the subject firm adversely affected as a supplier to a trade certified primary firm.

Based on these findings, the Department is amending this certification to include employees of Tenneco, Inc., Monroe, Michigan.

The amended notice applicable to TA-W-64,668 is hereby issued as follows:

All workers of Tenneco, Inc., including on-site leased workers from Elite Staffing, Inc., Cozad, Nebraska (TA-W-64,668), and all workers of Tenneco, Inc., including on-site leased workers from Elite Staffing, Inc., Monroe, Michigan (TA-W-64,668A), who became totally or partially separated from employment on or after December 12, 2007, through January 15, 2011, are eligible to apply for adjustment assistance under Section 223 of the Trade Act of 1974, and are also eligible to apply for alternative trade adjustment assistance under Section 246 of the Trade Act of 1974.

Signed at Washington, DC this 15th day of December, 2009.
Del Min Amy Chen,
Certifying Officer, Division of Trade Adjustment Assistance.

[FR Doc. E9-31388 Filed 1-4-10; 8:45 am]

BILLING CODE 4510-FN-P